DEPARTMENT OF TRANSPORTATION

Federal Aviation Administration

14 CFR Part 39

[Docket No. 2001-SW-17-AD; Amendment 39-12657; AD 2002-03-16]

RIN 2120-AA64

Airworthiness Directives; Bell Helicopter Textron, Inc.-Manufactured Model OH-13E, OH-13H, and OH-13S Helicopters

AGENCY: Federal Aviation Administration, DOT.

ACTION: Final rule.

SUMMARY: This amendment supersedes an existing airworthiness directive (AD) for Model OH-13E, OH-13H, and OH-13S helicopters manufactured by Bell Helicopter Textron, Inc. (BHTI). That AD currently requires either recurring liquid penetrant or eddy current inspections of the main rotor blade grip (grip) threads for a crack. If a crack is detected, that AD requires, before further flight, replacing the cracked grip with an airworthy grip. That AD also establishes a retirement life of 1200 hours time-in-service (TIS) for each grip. This amendment adds two part numbers (P/N) to the applicability and requires only recurring eddy current inspections of the grip threads. This AD also requires reporting any results of the grip inspections to the FAA Rotorcraft Certification Office. This amendment is prompted by the issuance of an AD for the civil BHTI Model 47 helicopters and the results of an accident investigation, an operator survey conducted by a trade association, various comments concerning the subject of the current AD, and a further analysis of field service data related to the BHTI Model 47 helicopters. The actions specified by this AD are intended to prevent failure of a grip, loss of a main rotor blade, and subsequent loss of control of the helicopter.

EFFECTIVE DATE: March 27, 2002.

FOR FURTHER INFORMATION CONTACT: Marc Belhumeur, Aviation Safety Engineer, FAA, Rotorcraft Directorate, Rotorcraft Certification Office, Fort Worth, Texas 76193-0170, telephone (817) 222-5177, fax (817) 222-5783.

SUPPLEMENTARY INFORMATION: A proposal to amend 14 CFR part 39 by superseding AD 2000-18-52, Amendment 39-11984 (65 FR 68873, November 15, 2000), which applies to BHTI-manufactured Model OH-13E, OH-13H, and OH-13S helicopters, was published in the Federal Register on October 29, 2001 (66 FR 54453). That action proposed to supersede AD 2000-18-52 and require the following:

• For grips, P/N 47-120-135-2, 47-120-135-3, 47-120-135-5, 47-120-252-1, 47-120-252-7, 47-120-252-11, and for grips manufactured under Parts Manufacturer Approval, P/N 74-120-252-11, 74-120-135-5, R74-120-252-11, and R74-120-135-5, conduct eddy current inspections of the threads of both grips as follows:

• Within 300 hours TIS since initial installation on any helicopter or within 10 hours TIS for grips with 300 or more hours TIS, or within 200 hours TIS since last liquid penetrant or eddy current inspection, whichever comes first, conduct an eddy current inspection in accordance with the procedures in Appendix 1 of this AD or an equivalent FAA-approved procedure that contains the requirements of the procedure in Appendix 1. Thereafter, conduct the eddy current inspection at intervals not to exceed 300 hours TIS.

• Report the results of each inspection to the FAA Rotorcraft Certification Office by providing the information requested in the sample format report in Appendix 3 of this AD. Information collection requirements contained in this AD have been approved by the Office of Management and Budget (OMB) under the provisions of the Paperwork Reduction Act of 1980 (44 U.S.C. 3501 et seq.) and have been assigned OMB Control Number 2120-0056.

• Before further flight, replace any cracked grip with an airworthy grip. Also, the AD proposed maintaining the current retirement life of 1200 hours TIS for each affected grip.

Interested persons have been afforded an opportunity to participate in the making of this amendment. No comments were received on the proposal or the FAA's determination of the cost to the public. The FAA has determined that air safety and the public interest require the adoption of the rule as proposed. However, a non-substantive change has been made to paragraph (a)(2) of the AD that describes the OMB information collection requirements; this change will neither increase the economic burden on any operator nor increase the scope of the AD.

The FAA estimates that 300 helicopters of U.S. registry will be affected by this AD, that it will take approximately 10 work hours per helicopter to accomplish the disassembly, inspection, and reassembly of the grips from the helicopter, and that the average labor rate is $60 per work hour. Required parts, if a grip needs to be replaced, will cost approximately $4,000 per grip. There are two grips on each helicopter. Based on these figures, the total cost impact of this AD on U.S. operators is estimated to be $2,580,000, assuming one inspection per helicopter and replacement of both grips on each helicopter.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the FAA, Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11984 (65 FR 68873, November 15, 2000), and by adding a new airworthiness directive (AD), Amendment 39-12657, to read as follows:

2002-03-16 Continental Copters, Inc.; Gifton McCreay (Formerly Aerodyne Systems Engineering, Ltd., Formerly Texas Helicopter Corp.); Hawkeye Rotor and Wing Flight School; and Teryjon Aviation Inc.: Amendment 39-12657. Docket No. 2001-SW-17-AD. Supersedes AD 2000-18-52, Amendment 39-11984, Docket No. 2000-SW-36-AD.

Applicability: Model OH-13E, OH-13H, and OH-13S helicopters manufactured by Bell Helicopter Textron, Inc. (BHTI), with main rotor blade grips, part number (P/N) 47-120-135-2, 47-120-135-3, 47-120-135-5, 47-120-252-1, 47-120-252-7, 47-120-252-11, 74-120-252-11, 74-120-135-5, R74-120-252-11, or R74-120-135-5, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required as indicated, unless accomplished previously.

To prevent failure of a main rotor blade grip (grip), separation of a main rotor blade, and subsequent loss of control of the helicopter, accomplish the following:

(a) Conduct an eddy current inspection of the threads of both grips for a crack in accordance with Appendix 1 of this AD or an equivalent FAA-approved procedure containing the requirements of the procedure in Appendix 1 within 300 hours time-in-service (TIS) since initial installation on any helicopter or within 10 hours TIS for grips with 300 or more hours TIS or within 200 hours TIS since the last liquid penetrant or eddy current inspection of grip threads, whichever comes first.

(1) Thereafter, conduct the eddy current inspection in accordance with Appendix 1 of this AD or an equivalent FAA-approved procedure containing the requirements of the procedure in Appendix 1 at intervals not to exceed 300 hours TIS.

(2) Report the results of each inspection to the FAA Rotorcraft Certification Office within 7 calendar days. Information collection requirements contained in this AD have been approved by the Office of Management and Budget (OMB) under the provisions of the Paperwork Reduction Act of 1980 (44 U.S.C. 3501 et seq.) and have been assigned OMB Control Number 2120-0056.

Note 2: See Appendix 2 of this AD for a list of known eddy current inspection facilities.

(b) If a crack is detected, before further flight, replace any cracked grip with an airworthy grip.

(c) On or before 1200 hours TIS, replace each grip with an airworthy grip.

(d) This AD establishes a retirement life of 1200 hours TIS for the grips, P/N 47-120-135-2, 47-120-135-3, 47-120-135-5, 47-120-252-1, 47-120-252-7, 47-120-252-11, 74-120-252-11, 74-120-135-5, R74-120-252-11, and R74-120-135-5.

(e) An alternative method of compliance or adjustment of the compliance time that provides an acceptable level of safety may be used if approved by the Manager, Rotorcraft Certification Office, FAA. Operators shall submit their requests through an FAA Principal Maintenance Inspector, who may concur or comment and then send it to the Manager, Rotorcraft Certification Office.

Note 3: Information concerning the existence of approved alternative methods of compliance with this AD, if any, may be obtained from the Rotorcraft Certification Office.

(f) Special flight permits may be issued in accordance with 14 CFR 21.197 and 21.199 to operate the helicopter to a location where the requirements of this AD can be accomplished.

(g) This amendment becomes effective on March 27, 2002.

Appendix 1

Appendix 2

Partial List of Nondestructive Inspection Testing Facilities Identified by Operators and FAA

Met Chem Testing Laboratories Inc., 369 W. Gregson Ave. (3085 S.), Salt Lake City, Utah 84115-3440, Phone: (801) 487-0801, FAX: (801) 466-8790, www.metchemtesting.com.

Galactic NDT Services, 10728 D. South Pipeline RD, Hurst, Texas 76053, Phone: (800) 458-6387.

Global Testing Technologies, 1173 North Service Rd. Unit D3, Oakville Toronto Canada, Phone: (905) 847-9300, FAX: (905) 847-9330.

Paragon Services, Inc., 1015 S. West St., Wichita, KS 67213, Phone: (316) 945-5285, FAX: (316) 945-0629.

NOE Services, 8775 E. Orchard Rd. #809, Englewood, CO, Phone: (303) 741-0518, FAX: (303) 741-0519.

Applied Technical Services, Inc., 1190 Atlanta Industrial Drive, Marietta, GA 30066, Phone: (770) 423-1400, FAX: (770) 514-3299.

Rotorcraft Support, Van Nuys CA 91406, Phone: (818) 997-7667, FAX: (818) 997-1513.

Other FAA Approved repair facilities may be used.

Appendix 3

AD Compliance Inspection Report (Sample Format) Model OH-13 Main Rotor Blade Grip

Provide the following information and mail or fax it to:

Manager, Rotorcraft Certification Office, Federal Aviation Administration, Fort Worth, Texas, 76193-0170, USA, Fax: 817-222-5783.

Aircraft Registration No:

Helicopter Model:

Helicopter Serial Number:

Owner and Operator of the Helicopter:

Grip #1———Grip #2

Part Number:

Serial Number:

Hours TIS on the part at Inspection:

Crack Found (Y/N)

If yes, describe below.

Description of Findings

Who performed the inspections?

If a crack was found, describe the crack size, location, and orientation (provide a sketch or pictures with the grip part and serial number).

Provide any other comments.

Issued in Fort Worth, Texas, on February 6, 2002.
David A. Downey,
Manager, Rotorcraft Directorate, Aircraft Certification Service.

[FR Doc. 02-3851 Filed 2-19-02; 8:45 am]

BILLING CODE 4910-13-U